DEPARTMENT OF THE INTERIOR

Bureau of Land Management

[LLCO956000 L14400000.BJ0000 19X]

Notice of Filing of Plats of Survey, Colorado

AGENCY: Bureau of Land Management, Interior.

ACTION: Notice of official filing.

SUMMARY: The plats of survey of the following described lands are scheduled to be officially filed in the Bureau of Land Management (BLM), Colorado State Office, Lakewood, Colorado, 30 calendar days from the date of this publication. The surveys, which were executed at the request of the U.S. Forest Service and the BLM, are necessary for the management of these lands.

DATES: Unless there are protests of this action, the plats described in this notice will be filed on April 29, 2019.

ADDRESSES: You may submit written protests to the BLM Colorado State Office, Cadastral Survey, 2850 Youngfield Street, Lakewood, CO 80215-7093.

FOR FURTHER INFORMATION CONTACT: Randy Bloom, Chief Cadastral Surveyor for Colorado, (303) 239-3856; rbloom@blm.gov. Persons who use a telecommunications device for the deaf may call the Federal Relay Service at 1-800-877-8339 to contact the above individual during normal business hours. The Service is available 24 hours a day, seven days a week, to leave a message or question with the above individual. You will receive a reply during normal business hours.

SUPPLEMENTARY INFORMATION: The plat of the protraction diagram of Township 9 North, Range 83 West, Sixth Principal Meridian, Colorado, was accepted on February 12, 2019.

The plat, in 7 sheets, incorporating the field notes of the dependent resurvey and survey in Township 12 South, Range 72 West, Sixth Principal Meridian, Colorado, was accepted on March 4, 2019.

The plat, in 5 sheets, incorporating the field notes of the dependent resurvey in Township 2 South, Range 73 West, Sixth Principal Meridian, Colorado, was accepted on March 7, 2019.

The plat incorporating the field notes of the dependent resurvey and survey in Township 36 North, Range 1 West, New Mexico Principal Meridian, Colorado, was accepted on March 15, 2019.

A person or party who wishes to protest any of the above surveys must file a written notice of protest within 30 calendar days from the date of this publication at the address listed in the ADDRESSES section of this notice. A statement of reasons for the protest may be filed with the notice of protest and must be filed within 30 calendar days after the protest is filed. If a protest against the survey is received prior to the date of official filing, the filing will be stayed pending consideration of the protest. A plat will not be officially filed until the day after all protests have been dismissed or otherwise resolved.

Before including your address, phone number, email address, or other personal identifying information in your protest, please be aware that your entire protest, including your personal identifying information, may be made publicly available at any time. While you can ask us in your comment to withhold your personal identifying information from public review, we cannot guarantee that we will be able to do so.

Authority: 43 U.S.C. Chap. 3.

Randy A. Bloom,
Chief Cadastral Surveyor.

[FR Doc. 2019-06133 Filed 3-28-19; 8:45 am]

BILLING CODE 4310-JB-P